SECURITIES AND EXCHANGE COMMISSION

[File No. 500-1]

In the Matter of the Hartcourt Companies, Inc., Hawksdale Financial Visions, Inc. (n/k/a Advanced Medical Institute, Inc.), Healthcare Providers Direct, Inc., Heartland Oil & Gas Corp., Hellenic Solutions Corp., and HIV-VAC, Inc. (n/k/a Grupo International, Inc.); Order of Suspension of Trading

December 12, 2012.

It appears to the Securities and Exchange Commission that there is a lack of current and accurate information concerning the securities of The Hartcourt Companies, Inc. because it has not filed any periodic reports since the period ended November 30, 2009.

It appears to the Securities and Exchange Commission that there is a lack of current and accurate information concerning the securities of Hawksdale Financial Visions, Inc. (n/k/a Advanced Medical Institute, Inc.) because it has not filed any periodic reports since the period ended December 31, 2009.

It appears to the Securities and Exchange Commission that there is a lack of current and accurate information concerning the securities of Healthcare Providers Direct, Inc. because it has not filed any periodic reports since September 30, 2008.

It appears to the Securities and Exchange Commission that there is a lack of current and accurate information concerning the securities of Heartland Oil & Gas Corp. because it has not filed any periodic since the period ended June 30, 2008.

It appears to the Securities and Exchange Commission that there is a lack of current and accurate information concerning the securities of Hellenic Solutions Corp. because it has not filed any periodic reports since the period ended September 30, 2010.

It appears to the Securities and Exchange Commission that there is a lack of current and accurate information concerning the securities of HIV-VAC, Inc. (n/k/a Grupo International, Inc.) because it has not filed any periodic reports since the period ended December 31, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on December 12, 2012, through 11:59 p.m. EST on December 26, 2012.

By the Commission.
Jill M. Peterson,
Assistant Secretary.

[FR Doc. 2012-30301 Filed 12-12-12; 4:15 pm]

BILLING CODE 8011-01-P